DEPARTMENT OF DEFENSE

Office of the Secretary

[Docket ID: DoD-2024-OS-0009]

Privacy Act of 1974; System of Records

AGENCY: Department of Defense (DoD).

ACTION: Rescindment of a system of records notices.

SUMMARY: In accordance with the Privacy Act of 1974, the DoD is providing notice to rescind 23 Privacy Act SORNs. A description of these systems can be found in the SUPPLEMENTARY INFORMATION section. Additionally, the DoD is issuing a direct final rule, published elsewhere in this issue of the Federal Register, to amend its regulation and remove the Privacy Act exemptions rule for four SORNs [items (i) through (k), and (t)] rescinded in this notice.

DATES: The rescindment of these SORNs is effective January 26, 2024.

FOR FURTHER INFORMATION CONTACT: Ms. Rahwa Keleta, Privacy and Civil Liberties Directorate, Office of the Assistant to the Secretary of Defense for Privacy, Civil Liberties, and Transparency, Department of Defense, 4800 Mark Center Drive, Mailbox #24, Suite 08D09, Alexandria, VA 22350-1700, OSD.DPCLTD@mail.mil, (703) 571-0070.

SUPPLEMENTARY INFORMATION:

I. Background

Pursuant to the provisions of the Privacy Act of 1974, 5 U.S.C. 552a, and as part of its ongoing integration and management efforts, the DoD is removing 26 Privacy Act SORNs from its inventory. Upon review of its inventory, DoD determined it no longer needs or uses these systems of records because the records are covered by other SORNs; therefore, DoD is retiring the following:

These five systems of records [items (a) through (e)] are being rescinded because the records are now maintained as part of the DoD-wide system of records titled DoD-0006, Military Justice and Civilian Criminal Case Records, published in the Federal Register on May 25, 2021 (86 FR 28086).

(a) The Department of the Navy system of records MJA00018, Performance File (August 3, 1993, 58 FR 41257) was established to provide a record on individuals from the initiation of investigation or indictment until such procedure is final, whether by conviction, acquittal, dismissal, or by the matter being dropped, and any resultant administrative action or proceedings for use in determining assignments whether an individual selected for promotion should be promoted while the matter is pending.

(b) The Department of the Navy system of records N05814-3, Courts-Martial Information (January 8, 2001, 66 FR 1325) was established to collect data on general and bad conduct discharge special courts-martial and to provide information and support to victims and witnesses in compliance with the Victim and Witness Assistance Program, the Sexual Assault Prevention and Response Program, and the Victims' Rights and Restitution Act of 1990. Files contain courts-martial information on special courts-martial if sentence, as finally approved, includes a punitive discharge and all general courts-martial including name, Social Security Number, pleas, convening authority action, supervisory authority action, and Court of Military Review action. Information is available from 1970 through 1986 only.

(c) The Department of the Navy system of records N05814-4, Article 69(b) Petitions (January 8, 2001, 66 FR 1326) was established to complete appellate review as required under 10 U.S.C. 869(b) and to provide a central repository accessible to the public who may request information concerning the appellate review or want copies of individual public records, as well as to provide information and support to victims and witnesses in compliance with the Victim and Witness Assistance Program, the Sexual Assault Prevention and Response Program, and the Victims' Rights and Restitution Act of 1990. Files contain individual service member's petition together with all forwarding endorsements and copies of action taken by the Judge Advocate General with supporting memorandum.

(d) The Department of the Navy system of records N05814-5, Article 73 Petitions for New Trial (January 8, 2001, 66 FR 1327) was established to provide a record of individual petitions in order to answer inquiries from the individual concerned and to provide additional advice to commands involved when and if such petitions are granted. Files contain the petition for new trial, the forwarding endorsements if the petition was submitted via the chain of command, and the action of the Judge Advocate General on the petition.

(e) The Department of the Navy system of records N05814-6, Appellate Case Tracking System (ACTS) (June 8, 1999, 64 FR 30498) was established to track the status of courts-martial cases appealed to the Navy-Marine Corps Court of Criminal Appeals for the Armed Forces. The system was also used by the officials and employees of the Department of the Navy to provide management and statistical information to governmental, public, and private organizations and individuals. Files contain Navy appellate case records, additional Navy appellate case information records, and historical Navy appellate case records from 1986 to present.

These four systems of records [items (f) through (i)] are being rescinded because the records are now maintained as part of the DoD-wide system of records titled DoD-0016, DoD Claims Management Records, published in the Federal Register on April 26, 2023 (88 FR 25384).

(f) The Department of the Air Force system of records F051 AFJA J, Claims Records (December 31, 2008, 73 FR 80377) was established for claims adjudication and processing, budgeting, and management of claims. Records are also used as necessary in civil litigation involving the United States.

(g) The Department of the Navy system of records N05880-2, Admiralty Claims Files (December 6, 2013, 78 FR 73512; May 9, 2003, 68 FR 24971) was established to evaluate and settle Admiralty tort claims asserted for and against the Department of the Navy involving death, personal injury, property damage, or salvage, and to provide litigation support to the Department of Justice.

(h) The Department of the Navy system of records N05890-8, NAVSEA Radiation Injury Claim Records (February 22, 1993, 58 FR 10788) was established to provide NAVSEA Radiological Control Managers with information necessary to evaluate radiation injury compensation claims.

(i) The Defense Intelligence Agency system of records LDIA 0900, Accounts Receivable, Indebtedness and Claims (November 15, 2013, 78 FR 68828; May 3, 2012, 77 FR 26257; August 10, 2011, 76 FR 49457) was established to manage records used in cases regarding claims, payments, and indebtedness associated with the Defense Intelligence Agency. Information is used to comply with regulatory requirements and to facilitate collections and/or payments.

These two systems of records [items (j) through (k)] are rescinded because the records are now maintained as a part of the DoD-wide system of records titled DoD-0017, Privacy and Civil Liberties Complaints and Correspondence Records published in the Federal Register on February 23, 2023 (88 FR 11412).

(j) The Office of the Inspector General system of records CIG-29, Privacy and Civil Liberties Complaint Reporting System (May 5, 2014, 79 FR 25586) was established to support the DoD Inspector General Privacy and Civil Liberties Programs and the requirement to report complaints to the Defense Privacy and Civil Liberties Office for reporting to Congress.

(k) The Defense Intelligence Agency system of records LDIA 12-0002, Privacy and Civil Liberties Case Management Records (September 17, 2012, 77 FR 57078) was established to receive, log, and track the processing of Privacy Act violations, inquiries, and allegations of violations of civil liberties.

These eight systems of records [items (l) through (s)] are rescinded because the records are now maintained as a part of the DoD-wide system of records titled DoD-0018, DoD Patron Authorization, Retail, and Service Activities, published in the Federal Register on March 30, 2023 (88 FR 19103).

(l) The Department of the Army system of records AAFES 0207.02, Exchange Retail Sales Transaction Data (March 18, 2016, 81 FR 14839; August 28, 2006, 71 FR 50900) was established and maintained to enable the Army and Air Force Exchange Service to carry out its mission to enhance the quality of life for authorized patrons and to support military readiness, recruitment, and retention by providing a world-wide system of Exchanges with merchandise and household goods similar to commercial stores and services.

(m) The Department of the Army system of records AAFES 0702.34, Accounts Receivable Files (November 4, 1999, 64 FR 60179) was established to process, monitor, and post audit accounts receivable, to administer the Federal Claims Collection Act, and to answer inquiries pertaining thereto; to collect indebtedness.

(n) The Department of the Army system of records AAFES 1609.02, AAFES Customer Service (August 28, 2006, 71 FR 50898) was established to record customer transactions/payment for layaway and special orders; to determine payment status before finalizing transactions; to identify account delinquencies and prepare customer reminder notices; to mail refunds on canceled layaway or special orders; to process purchase refunds; to document receipt from customer of merchandise subsequently returned to vendors for repair or replacement, shipping/delivery information, and initiate follow up actions; to monitor individual customer refunds; to perform market basket analysis; to improve efficiency of marketing system(s); and to help detect and prevent criminal activity and identify potential abuse of exchange privileges.

(o) The Department of the Army system of records AAFES 1609.03, AAFES Catalog System (December 14, 2015, 80 FR 77330; August 9, 1996, 61 FR 41593) was established to locate order information; to reply to customer inquiries and complaints; to create labels for shipment to the proper location; to refund customer remittances or to collect monies due; to provide claim and postal authorities with confirmation/certification of shipment for customer claims for damage or lost shipments.

(p) The Department of the Navy system of records N04066-1, Bad Checks and Indebtedness Lists (September 22, 2006, 71 FR 55445) was established to maintain an automated tracking and accounting system for individuals indebted to the Department of the Navy and to collect indebtedness. Records in this system are subject to use in approved computer matching programs authorized under the Privacy Act of 1974, as amended, for debt collection purposes. Records may also be used by the Army and Air Force Exchange Service (AAFES) or its contractor for the purpose of recouping fees.

(q) The Department of the Navy system of records N04066-3, NEXCOM Layaway Sales Records (April 30, 2008, 73 FR 23446) was established to record the selection of layaway merchandise, record payments, verify merchandise pickup, and as a management tool to perform sales audits.

(r) The Department of the Navy system of records N04066-5, NEXCOM Direct Mail List/Patron Profile (September 9, 1996, 61 FR 47491) was established to maintain a database which will permit the Navy Exchange Program to mail sales promotional, informational, and market research materials to those authorized customers who have requested receipt of materials.

(s) The Defense Commissary Agency system of records Z0035-01, Commissary Retail Sales Transaction Data (January 6, 2015, 80 FR 497; May 24, 2013, 78 FR 31528; December 28, 2007, 72 FR 73782) was established to enable the Defense Commissary Agency to carry out its mission to enhance the quality of life of members of the uniformed services, retired members, and dependents of such members, and to support military readiness, recruitment, and retention by providing a world-wide system of commissaries similar to commercial grocery stores and selling merchandise and household goods similar to those sold in commercial grocery stores; to enable the authentication of authorized patrons, record purchases and purchases prices, calculate the total amount owed by the customer, account for and deduct coupons and other promotional discounts, and accept payment by various media; to enable the collection of debts due the United States in the event a patron's medium of payment is declined or returned unpaid; to enable the monitoring of purchases of restricted items outside the United States, its territories, and possessions, as necessary, to prevent black marketing in violation of treaties or agreements, and to comply with age restrictions applicable to certain purchases by minors or those under allowable ages; to enable authorized patrons to order commissary retail products on-line through their home computer or mobile device and to pay for such purchases electronically either at the time of ordering or at the time of pick up; to enable the creation of commissary patron profiles for the purposes of determining aggregate patron demographic data and patron shopping preference information, and to enable the compilation of individual patron comments, inquiries, complaints, requests, and feedback posted to social media pages; for use in responding to individual patron inquiries, assessing aggregate patron satisfaction with the delivery of the commissary benefit, and in determining appropriate product availability meeting the commissary customers' current and future needs and wants.

The following individual system of records notices [items (t) through (w)] are being rescinded for the reasons stated in each paragraph below.

(t) The Defense Counterintelligence and Security Agency (DCSA) system of records V5-04, Counterintelligence Issues Database (CII-DB) (January 29, 2013, 78 FR 6077; August 17, 1999, 64 FR 44710) was established to provide a centralized database to document, refer, track, monitor, and evaluate Counterintelligence indicators/issues uncovered through Personnel Security Investigations and Administrative Inquiries. The DCSA is rescinding V5-04 because the records are maintained as part of as a part of the DoD-wide system of records titled DUSDI 02-DoD, Personnel Vetting Records System published in the Federal Register on October 17, 2018 (83 FR 52420).

(u) The Defense Contract Audit Agency system of records RDCAA 358.3, Grievance and Appeal Files (December 31, 2012, 77 FR 77048; November 20, 1997, 62 FR 62012) was established to record the grievance, the nature and scope of inquiry into the matter being grieved, and the treatment accorded the matter by management. The DCAA is rescinding RDCAA 358.3 because the records are maintained as part of EEOC/GOVT-1, Equal Employment Opportunity in the Federal Government Complaint and Appeals Records, published in the Federal Register on November 17, 2016, 81 FR 8116.

(v) The Office of the Secretary, DoD/Joint Staff system of records DWHS D01, DoD National Capital Region Mass Transportation Benefit Program (February 25, 2016, 81 FR 9462; October 27, 2015, 80 FR 65724; December 9, 2011, 76 FR 76959) was established to manage the DoD National Capital Region Mass Transportation Benefit Program for DoD military and civilian personnel applying for and in receipt of fare subsidies. Used as a management tool for statistical analysis, tracking, reporting, evaluating program effectiveness, and conducting research. The Office of the Secretary, DoD/Joint Staff is rescinding DWHS D01 because the records are now maintained as part of the DoD-0009, Defense Mass Transportation Benefits Records published in the Federal Register on January 7, 2022, 87 FR 943.

(w) The Defense Intelligence Agency (DIA) system of records LDIA 0011, Student Information Files (August 5, 2013, 78 FR 47308; May 11, 2010; 75 FR 26201) was established to provide data for managing the student population at the National Intelligence University (NIU) and for historical documentation. The DIA is rescinding LDIA 011 because the records are now maintained as part of the ODNI/NIU-01, NIU Program Records published in the Federal Register on October 6, 2022, 87 FR 60713.

DoD SORNs have been published in the Federal Register and are available from the address in FOR FURTHER INFORMATION CONTACT or at the Privacy and Civil Liberties Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or alien lawfully admitted for permanent residence.

In accordance with 5 U.S.C. 552a(r) and Office of Management and Budget (OMB) Circular No. A-108, DoD has provided a report of this SORN bulk rescindment to OMB and Congress.

System name | Number | History
(a) Performance File | MJA00018 | August 3, 1993, 58 FR 41257.
(b) Courts-Martial Information | N05814-3 | January 8, 2001, 66 FR 1325.
(c) Article 69(b) Petitions | N05814-4 | January 8, 2001, 66 FR 1326.
(d) Article 73 Petitions for New Trial | N05814-5 | January 8, 2001, 66 FR 1327.
(e) Appellate Case Tracking System (ACTS) | N05814-6 | June 8, 1999, 64 FR 30498.
(f) Claims Records | F051 AFJA J | December 31, 2008, 73 FR 80377.
(g) Admiralty Claims Files | N05880-2 | December 6, 2013, 78 FR 73512; May 9, 2003, 68 FR 24971.
(h) NAVSEA Radiation Injury Claim Records | N05890-8 | February 22, 1993, 58 FR 10788.
(i) Accounts Receivable, Indebtedness and Claims | LDIA 0900 | November 15, 2013, 78 FR 68828; May 3, 2012, 77 FR 26257; August 10, 2011, 76 FR 49457.
(j) Privacy and Civil Liberties Complaint Reporting System | CIG-29 | May 5, 2014, 79 FR 25586.
(k) Privacy and Civil Liberties Case Management Records | LDIA 12-0002 | September 17, 2012, 77 FR 57078.
(l) Exchange Retail Sales Transaction Data | AAFES 0207.02 | March 18, 2016, 81 FR 14839; August 28, 2006, 71 FR 50900.
(m) Accounts Receivable Files | AAFES 0702.34 | November 4, 1999, 64 FR 60179.
(n) AAFES Customer Service | AAFES 1609.02 | August 28, 2006, 71 FR 50898.
(o) AAFES Catalog System | AAFES 1609.03 | December 14, 2015, 80 FR 77330; August 9, 1996, 61 FR 41593.
(p) Bad Checks and Indebtedness List | N04066-1 | September 22, 2006, 71 FR 55445.
(q) NEXCOM Layaway Sales Records | N04066-3 | April 30, 2008, 73 FR 23446.
(r) NEXCOM Direct Mail List/Patron Profile | N04066-5 | September 9, 1996, 61 FR 47491.
(s) Commissary Retail Sales Transaction Data | Z0035-01 | January 6, 2015, 80 FR 497; May 24, 2013, 78 FR 31528; December 28, 2007, 72 FR 73782.
(t) Counterintelligence Issues Database (CII-DB) | V5-04 | January 29, 2013; 78 FR 6077; August 17, 1999, 64 FR 44710.
(u) Grievance and Appeals Files | RDCAA 358.3 | December 31, 2012, 77 FR 77048; November 20, 1997, 62 FR 62012.
(v) DoD National Capital Region Mass Transportation Benefit Program | DWHS D01 | February 25, 2016, 81 FR 9462; October 27, 2015, 80 FR 65724; December 9, 2011, 76 FR 76959.
(w) Student Information Files | LDIA 011 | August 5, 2013, 78 FR 47308; May 11, 2010; 75 FR 26201.

Dated: January 22, 2024.
Aaron T. Siegel,
Alternate OSD Federal Register Liaison Officer, Department of Defense.

[FR Doc. 2024-01553 Filed 1-25-24; 8:45 am]

BILLING CODE 6001-FR-P